DEPARTMENT OF DEFENSE

Defense Acquisition Regulations System

48 CFR Part 237

Defense Federal Acquisition Regulation Supplement; Services of Senior Mentors (DFARS Case 2010-D025)

AGENCY: Defense Acquisition Regulations System, Department of Defense (DoD).

ACTION: Final rule.

SUMMARY: DoD is issuing a final rule amending the Defense Federal Acquisition Regulation Supplement (DFARS) to implement DoD policy on the services of senior mentors.

DATES: Effective: November 24, 2010.

FOR FURTHER INFORMATION CONTACT: Ms. Meredith Murphy, 703-602-1302, Defense Acquisition Regulations System, OUSD (AT&L) DPAP/DARS, 3060 Defense Pentagon, Room 3B855, Washington, DC 20301-3060.

SUPPLEMENTARY INFORMATION:

I. Background

This DFARS case is implementing the DoD policy on the services of senior mentors. These policies are set forth in two memoranda:

• Secretary of Defense Memorandum entitled “Policy on Senior Mentors,” dated April 1, 2010; and

• Deputy Secretary of Defense Memorandum entitled “Implementation Guidance on Senior Mentor Policy,” dated July 8, 2010.

This case is being published as a final rule because the policy changes have already been established by the Secretary of Defense and the Deputy Secretary of Defense in their policy memoranda. The DFARS language incorporated by this rule is implementing the policy established in the memoranda, which impacts internal DoD operations with no impact on the public. Therefore, publication for public comments is not necessary.

II. Discussion

Senior mentors are retired flag, general, or other military officers or retired senior civilian officials who provide expert experience-based mentoring, teaching, training, advice, and recommendations to senior military officers, staff, and students as they participate in war games, warfighting courses, operational planning, operational exercises, and decision-making exercises. The relevant prior service, joint force experience, and unique expertise of senior mentors provide senior leadership with valuable insights and contribute to the continuous improvement of the DoD operations.

Because of DoD's increased need for senior mentors to participate in warfighting exercises and its desire to promote public trust and confidence in the integrity of its programs and operations, the Secretary has directed the adoption of a uniform hiring process that will provide consistency and transparency to the senior mentor program. Specifically, the Secretary has directed that all requirements for senior mentor services must be satisfied by employing senior mentors as “highly qualified experts,” a type of civil service position under 5 U.S.C. 9903. As highly qualified experts, senior mentors will be subject to applicable Federal personnel and ethics laws and regulations.

Therefore, DoD will not use the authority of 5 U.S.C. 3109 or 10 U.S.C. 129(b) to enter into personal services contracts with senior mentors or otherwise contract for the services of senior mentors. This final rule implements the Secretary's policy by adding a prohibition against contracting for the services of senior mentors at DFARS 237.102-73.

III. Executive Order 12866

This is not a significant regulatory action and, therefore, is not subject to review under section 6(b) of Executive Order 12866, Regulatory Planning and Review, dated September 30, 1993. This rule is not a major rule under 5 U.S.C. 804.

IV. Regulatory Flexibility Act

The Regulatory Flexibility Act does not apply to this rule. This rule will not have a significant economic impact upon a substantial number of small entities because this final rule does not constitute a significant DFARS revision within the meaning of 41 U.S.C. 418b and FAR 1.501 and does not require publication for public comment. The rule is internal to DoD and does not impose any requirements on small businesses. Therefore, a regulatory flexibility analysis has not been performed.

V. Paperwork Reduction Act

The Paperwork Reduction Act does not apply because the final rule does not contain any information collection requirements that require the approval of the Office of Management and Budget under 44 U.S.C., et seq.

List of Subjects in 48 CFR Part 237

Government procurement.

Clare M. Zebrowski,
Editor, Defense Acquisition Regulations System.

Therefore, 48 CFR part 237 is amended as follows:

PART 237—SERVICE CONTRACTING

1. The authority citation for 48 CFR part 237 continues to read as follows:

Authority: 41 U.S.C. 421 and 48 CFR chapter 1.

2. Section 237.101 is amended by adding the definition for “senior mentor” in alphabetical order as follows:

237.101 Definitions.

* * * * *

“Senior mentor” means a retired flag, general, or other military officer or retired senior civilian official who provides expert experience-based mentoring, teaching, training, advice, and recommendations to senior military officers, staff, and students as they participate in war games, warfighting courses, operational planning, operational exercises, and decision-making exercises.

3. Section 237.102-73 is added as follows:

237.102-73 Prohibition on contracts for services of senior mentors.

DoD is prohibited from entering into contracts for the services of senior mentors. See PGI 237.102-73 for references to DoD policy and implementation guidance.

[FR Doc. 2010-29507 Filed 11-23-10; 8:45 am]

BILLING CODE 5001-08-P